DEPARTMENT OF TRANSPORTATION

Federal Aviation Administration

14 CFR Part 39

[Docket No. FAA-2025-1733; Project Identifier MCAI-2025-00762-T; Amendment 39-23110; AD 2025-16-12]

RIN 2120-AA64

Airworthiness Directives; Airbus SAS Airplanes; Correction

AGENCY: Federal Aviation Administration (FAA), DOT.

ACTION: Final rule; request for comment; correction.

SUMMARY: The FAA is correcting an airworthiness directive (AD) that was published in the Federal Register. That AD applies to all Airbus SAS Model A319-151N, -153N, -171N, and -173N airplanes; Model A320-251N, -252N, -253N, -271N, -272N, and -273N airplanes; and Model A321-251N, -252N, -253N, -271N, -272N, -251NX, -252NX, -253NX, -271NX, -272NX, -253NY, and -271NY airplanes. As published, a reference to a European Union Aviation Safety Agency (EASA) AD specified in the regulatory text is incorrect. This document corrects that error. In all other respects, the original document remains the same.

DATES: This correction is effective August 29, 2025. The effective date of AD 2025-16-12 remains August 29, 2025. The date for submitting comments on AD 2025-16-12 remains September 29, 2025.

The Director of the Federal Register approved the incorporation by reference of a certain publication listed in this AD as of August 29, 2025 (90 FR 39102, August 14, 2025).

ADDRESSES:

AD Docket: You may examine the AD docket at regulations.gov under Docket No. FAA-2025-1733; or in person at Docket Operations between 9 a.m. and 5 p.m., Monday through Friday, except Federal holidays. The AD docket contains this final rule; request for comment; correction, the mandatory continuing airworthiness information (MCAI), any comments received, and other information. The address for Docket Operations is U.S. Department of Transportation, Docket Operations, M-30, West Building Ground Floor, Room W12-140, 1200 New Jersey Avenue SE, Washington, DC 20590.

Material Incorporated by Reference:

• For European Union Aviation Safety Agency (EASA) material identified in this AD, contact EASA, Konrad-Adenauer-Ufer 3, 50668 Cologne, Germany; telephone +49 221 8999 000; email ADs@easa.europa.eu. You may find this material on the EASA website at ad.easa.europa.eu.

• You may view this material at the FAA, Airworthiness Products Section, Operational Safety Branch, 2200 South 216th St., Des Moines, WA. For information on the availability of this material at the FAA, call 206-231-3195. It is also available in the AD docket at regulations.gov under Docket No. FAA-2025-1733.

FOR FURTHER INFORMATION CONTACT: Frank Carreras, Aviation Safety Engineer, FAA, 2200 South 216th St., Des Moines, WA 98198; phone: 206-231-3539; email: Frank.Carreras@faa.gov.

SUPPLEMENTARY INFORMATION:

Comments Invited

The FAA invites you to send any written relevant data, views, or arguments about AD 2025-16-12. Submit comments as instructed in AD 2025-16-12, Amendment 39-23110 (90 FR 39102, August 14, 2025) (AD 2025-16-12).

Background

AD 2025-16-12, requires revising the existing airplane flight manual (AFM) and the existing FAA-approved minimum equipment list (MEL), allows replacement of each affected high-pressure bleed valve (HPV) as an optional terminating action, and prohibits the installation of affected parts. That AD applies to all Airbus SAS Model A319-151N, -153N, -171N, and -173N airplanes; Model A320-251N, -252N, -253N, -271N, -272N, and -273N airplanes; and Model A321-251N, -252N, -253N, -271N, -272N, -251NX, -252NX, -253NX, -271NX, -272NX, -253NY, and -271NY airplanes.

Need for the Correction

As published, a reference to an EASA AD specified in the regulatory text of AD 2025-16-12 is incorrect. Paragraph (h)(3) of AD 2025-16-12 requires replacing text from EASA AD 2025-0096, dated April 28, 2025 (EASA AD 2025-0096) with “revise the operator's existing FAA-approved MEL by incorporating the applicable information identified in “The MMEL update” as defined in EASA AD 2024-0157,” whereas it should state “as defined in EASA AD 2025-0096.”

Material Incorporated by Reference Under 1 CFR Part 51

The FAA reviewed EASA AD 2025-0096, which specifies procedures for amending the existing AFM by incorporating a temporary revision, implementing a master MEL (MMEL) update, and repetitively replacing each affected HPV clip. EASA AD 2025-0096 includes an optional terminating action of replacing each affected HPV with a non-affected HPV and prohibits installing an affected HPV on any airplane. This material is reasonably available because the interested parties have access to it through their normal course of business or by the means identified in the ADDRESSES section.

Correction of Publication

This document corrects an error and correctly adds the AD as an amendment to 14 CFR 39.13. Although no other part of the preamble or regulatory information has been corrected, the FAA is publishing the entire rule in the Federal Register.

The effective date of this AD remains August 29, 2025.

Since this action only corrects a typographical error, it has no adverse economic impact and imposes no additional burden on any person. Therefore, the FAA has determined that notice and public procedures are unnecessary.

List of Subjects in 14 CFR Part 39

Air transportation, Aircraft, Aviation safety, Incorporation by reference, Safety.

Adoption of the Amendment

Accordingly, pursuant to the authority delegated to me by the Administrator, the FAA amends part 39 of the Federal Aviation Regulations (14 CFR part 39) as follows:

PART 39—AIRWORTHINESS DIRECTIVES

1. The authority citation for part 39 continues to read as follows:

Authority: 49 U.S.C. 106(g), 40113, 44701.

§ 39.13 [Corrected]

2. The FAA amends § 39.13 by adding the following new airworthiness directive:

2025-16-12 Airbus SAS: Amendment 39-23110; Docket No. FAA-2025-1733; Project Identifier MCAI-2025-00762-T.

(a) Effective Date

This airworthiness directive (AD) is effective August 29, 2025.

(b) Affected ADs

None.

(c) Applicability

This AD applies to all Airbus SAS airplanes identified in paragraphs (c)(1) through (3) of this AD, certificated in any category.

(1) Model A319-151N, -153N, -171N, and -173N airplanes.

(2) Model A320-251N, -252N, -253N, -271N, -272N, and -273N airplanes.

(3) Model A321-251N, -252N, -253N, -271N, -272N, -251NX, -252NX, -253NX, -271NX, -272NX, -253NY, and -271NY airplanes.

(d) Subject

Air Transport Association (ATA) of America Code 36, Pneumatic.

(e) Unsafe Condition

This AD was prompted by occurrences of high-pressure bleed valve (HPV) butterfly seal retention clip rupture. The FAA is issuing this AD to address high pressure and temperatures in the duct downstream from the pressure regulating valve, which could lead to duct burst and result in damage to several systems or the airframe and consequent loss of control of the airplane.

(f) Compliance

Comply with this AD within the compliance times specified, unless already done.

(g) Requirements

Except as specified in paragraph (h) of this AD: Comply with all required actions and compliance times specified in, and in accordance with, European Union Aviation Safety Agency (EASA) AD 2025-0096, dated April 28, 2025 (EASA AD 2025-0096).

(h) Exceptions to EASA AD 2025-0096

(1) Where EASA AD 2025-0096 refers to its effective date, this AD requires using the effective date of this AD.

(2) Where paragraphs (1) and (3) of EASA AD 2025-0096 specify to “inform all flight crews, and, thereafter, operate the aeroplane accordingly,” this AD does not require those actions as those actions are already required by existing FAA operating regulations (see 14 CFR 91.9, 91.505, 121.137, 121.628(a)(2) and 121.628(a)(5)).

(3) Where paragraph (3) of EASA AD 2025-0096 specifies to “implement the instructions of the MMEL update, as applicable, depending on aeroplane configuration (see Note 1 of this AD), on the basis of which the operator's MEL must be amended”, this AD requires replacing that text with “revise the operator's existing FAA-approved MEL by incorporating the applicable information identified in “The MMEL update” as defined in EASA AD 2025-0096”.

(4) Where the service information required by EASA AD 2025-0096 specifies discarding parts, this AD requires removing those parts from service.

(5) This AD does not adopt the requirements specified in paragraph (4) of EASA AD 2025-0096.

(6) This AD does not adopt the “Remarks” section of EASA AD 2025-0096.

(i) Additional AD Provisions

The following provisions also apply to this AD:

(1) Alternative Methods of Compliance (AMOCs): The Manager, AIR-520, Continued Operational Safety Branch, FAA, has the authority to approve AMOCs for this AD, if requested using the procedures found in 14 CFR 39.19. In accordance with 14 CFR 39.19, send your request to your principal inspector or responsible Flight Standards Office, as appropriate. If sending information directly to the manager of the Continued Operational Safety Branch, send it to the attention of the person identified in paragraph (j) of this AD and email to: AMOC@faa.gov. Before using any approved AMOC, notify your appropriate principal inspector, or lacking a principal inspector, the manager of the responsible Flight Standards Office.

(2) Contacting the Manufacturer: For any requirement in this AD to obtain instructions from a manufacturer, the instructions must be accomplished using a method approved by the Manager, AIR-520, Continued Operational Safety Branch, FAA; or EASA; or Airbus SAS's EASA Design Organization Approval (DOA). If approved by the DOA, the approval must include the DOA-authorized signature.

(3) Required for Compliance (RC): Except as required by paragraph (i)(2) of this AD, if any material referenced in EASA AD 2025-0096 contains paragraphs that are labeled as RC, the instructions in RC paragraphs, including subparagraphs under an RC paragraph, must be done to comply with this AD; any paragraphs, including subparagraphs under those paragraphs, that are not identified as RC are recommended. The instructions in paragraphs, including subparagraphs under those paragraphs, not identified as RC may be deviated from using accepted methods in accordance with the operator's maintenance or inspection program without obtaining approval of an AMOC, provided the instructions identified as RC can be done and the airplane can be put back in an airworthy condition. Any substitutions or changes to instructions identified as RC require approval of an AMOC.

(j) Additional Information

For more information about this AD, contact Frank Carreras, Aviation Safety Engineer, FAA, 2200 South 216th St., Des Moines, WA 98198; phone: 206-231-3539; email: Frank.Carreras@faa.gov.

(k) Material Incorporated by Reference

(1) The Director of the Federal Register approved the incorporation by reference (IBR) of the material listed in this paragraph under 5 U.S.C. 552(a) and 1 CFR part 51.

(2) You must use this material as applicable to do the actions required by this AD, unless this AD specifies otherwise.

(3) The following material was approved for IBR on August 29, 2025 (90 FR 39102, August 14, 2025).

(i) European Union Aviation Safety Agency (EASA) AD 2025-0096, dated April 28, 2025.

(ii) [Reserved]

(4) For EASA material identified in this AD, contact EASA, Konrad-Adenauer-Ufer 3, 50668 Cologne, Germany; telephone +49 221 8999 000; email ADs@easa.europa.eu. You may find this material on the EASA website at ad.easa.europa.eu.

(5) You may view this material at the FAA, Airworthiness Products Section, Operational Safety Branch, 2200 South 216th St., Des Moines, WA. For information on the availability of this material at the FAA, call 206-231-3195.

(6) You may view this material at the National Archives and Records Administration (NARA). For information on the availability of this material at NARA, visit www.archives.gov/federal-register/cfr/ibr-locations or email fr.inspection@nara.gov.

Issued on August 19, 2025.
Lona C. Saccomando,
Acting Deputy Director, Integrated Certificate Management Division, Aircraft Certification Service.

[FR Doc. 2025-16135 Filed 8-21-25; 8:45 am]

BILLING CODE 4910-13-P